DEPARTMENT OF STATE

[Public Notice: 9477]

Notice of Proposal To Extend the Memorandum of Understanding Between the Government of the United States of America and the Government of the Hellenic Republic Concerning the Imposition of Import Restrictions on Categories of Archaeological and Byzantine Ecclesiastical Ethnological Material Through the 15th Century A.D. of the Hellenic Republic

The Government of the Hellenic Republic has informed the Government of the United States of America of its interest in an extension of the Memorandum of Understanding between the Government of the United States of America and the Government of the Hellenic Republic Concerning the Imposition of Import Restrictions on Categories of Archaeological and Byzantine Ecclesiastical Ethnological Material through the 15th Century A.D. of the Hellenic Republic (“the MOU”).

Pursuant to the authority vested in the Assistant Secretary of State for Educational and Cultural Affairs, and pursuant to 19 U.S.C. 2602(f)(1), an extension of this MOU is hereby proposed.

A copy of the MOU, the Designated List of restricted categories of material, and related information can be found at the following Web site: http://culturalheritage.state.gov.

Dated: March 2, 2016.
Evan Ryan,
Assistant Secretary, Bureau of Educational and Cultural Affairs, U.S. Department of State.

[FR Doc. 2016-05674 Filed 3-11-16; 8:45 am]

BILLING CODE 4710-05-P